NUCLEAR REGULATORY COMMISSION

[Docket No. 50-390]

Tennessee Valley Authority; Notice of Withdrawal of Application for Amendment to Facility Operating License

The U.S. Nuclear Regulatory Commission (the Commission) has granted the request of Tennessee Valley Authority (the licensee) to withdraw its December 13, 2002, application for proposed amendment to Facility Operating License No. NPF-90 for the Watts Bar Nuclear Plant (WBN), Unit 1, located in Rhea County, Tennessee.

The proposed amendment would have revised the WBN Unit 1, Technical Specifications to add two new sections, 3.7.16, “Shutdown Board Room (SDBR) Air Conditioning System (ACS),” and 3.7.17, “Elevation 772.0 480 Volt Board Room Air Conditioning (AC) systems.”

The Commission had previously issued a Notice of Consideration of Issuance of Amendment published in the Federal Register on March 18, 2003 (68 FR 12958). However, by letter dated April 30, 2004, the licensee withdrew the proposed change.

For further details with respect to this action, see the application for amendment dated December 13, 2002, and the licensee's letter dated April 30, 2004, which withdrew the application for license amendment. Documents may be examined, and/or copied for a fee, at the NRC's Public Document Room (PDR), located at One White Flint North, Public File Area O-1F21, 11555 Rockville Pike (first floor), Rockville, Maryland. Publicly available records will be accessible electronically from the Agencywide Documents Access and Management Systems (ADAMS) Public Electronic Reading Room on the Internet at the NRC Web site, http://www.nrc.gov/reading-rm/adams/html. Persons who do not have access to ADAMS or who encounter problems in accessing the documents located in ADAMS, should contact the NRC PDR Reference staff by telephone at 1-800-397-4209, or 301-415-4737 or by e-mail to pdr@nrc.gov.

Dated in Rockville, Maryland, this 21st day of May, 2004.
For the Nuclear Regulatory Commission.
Manny M. Comar,
Project Manager, Section 2, Project Directorate II, Division of Licensing Project Management, Office of Nuclear Reactor Regulation.

[FR Doc. 04-12099 Filed 5-27-04; 8:45 am]

BILLING CODE 7590-01-P